INTERNATIONAL TRADE COMMISSION

[Investigation No. 731-TA-1047 (Final)]

Ironing Tables and Certain Parts Thereof From China

AGENCY: International Trade Commission.

ACTION: Revised schedule for the subject investigation.

EFFECTIVE DATE: March 25, 2004.

FOR FURTHER INFORMATION CONTACT: Megan Spellacy (202-205-3190), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On March 3, 2004, the Commission established a schedule for the conduct of the final phase of the subject investigation (69 FR 10753, March 8, 2004). The Commission is revising its schedule to redress a scheduling conflict created by a schedule change in another case before the ITC.

The Commission's new schedule for the investigation is as follows: the deadline for filing prehearing briefs is June 9, 2004; the hearing will be held at the U.S. International Trade Commission Building at 9:30 a.m. on June 16, 2004; and the deadline for filing posthearing briefs is June 23, 2004.

For further information concerning this investigation see the Commission's notice cited above and the Commission's rules of practice and procedure, part 201, subparts A through E (19 CFR part 201), and part 207, subparts A and C (19 CFR part 207).

Authority: This investigation is being conducted under authority of title VII of the Tariff Act of 1930; this notice is published pursuant to section 207.21 of the Commission's rules.

By order of the Commission.
Issued: March 25, 2004.
Marilyn R. Abbott,
Secretary to the Commission.

[FR Doc. 04-7151 Filed 3-30-04; 8:45 am]

BILLING CODE 7020-02-P